DEPARTMENT OF THE INTERIOR

Bureau of Land Management

[AZ-320-08-1220-PN-1000-241A; 8340]

Extension of a Temporary Off-Highway Vehicle Restriction, Bureau of Land Management, Colorado River District, Yuma Field Office, Arizona

AGENCY: Bureau of Land Management, Interior.

ACTION: Notice.

SUMMARY: This notice is to inform the public that the Bureau of Land Management (BLM) intends to extend an existing restriction on all forms of motorized travel within 122.02 acres of public land until September 30, 2010. The public lands affected by this temporary restriction are located in the proximity of Walters Camp in Imperial County, California at lots 1, 18, and 19, SE¼SW¼, and Tract 38, section 6, Township 11 South, Range 22 East, San Bernardino Meridian. Employees of the BLM and any other local, state, and Federal wildlife management, law enforcement, and fire protection personnel are exempt from this restriction while operating within the scope of their official duties. Access by additional parties may be allowed, but must be approved in advance in writing by the BLM Yuma Field Manager.

The BLM has issued and is extending this restriction by the authority provided in 43 CFR 8341.2(a), 8364.1, and pursuant to the authority of the Federal Land Policy and Management Act of October 21, 1976, as amended (90 Stat. 2763; 43 U.S.C. 1732). The BLM is extending this restriction to minimize damage to soil, watershed, vegetation, and cultural resources of the public lands. Violations of this restriction are punishable by a fine not to exceed $100,000 and/or imprisonment not to exceed 12 months as authorized by Title 18, U.S.C., Sections 3571 and 3581.

DATES: The restriction will remain in effect until September 30, 2010.

FOR FURTHER INFORMATION CONTACT: James T. Shoaff, Yuma Field Manager; BLM Yuma Field Office; 2555 East Gila Ridge Road; Yuma, AZ 85365; yfoweb_az@blm.gov; (928) 317-3200.

SUPPLEMENTARY INFORMATION: This temporary off-highway vehicle restriction was originally established by the BLM Yuma Field Office on August 9, 2006. The original restriction was established to provide the BLM with the opportunity to inventory and assess the natural and cultural resource values on these 122.02 acres that were transferred to the BLM Yuma Field Office's jurisdiction from the U.S. Fish and Wildlife Service under Public Law 109-127, An Act to revoke a Public Land Order with respect to certain lands erroneously included in the Cibola National Wildlife Refuge, California (109th Congress, 12/07/2005).

The Ehrenberg-Cibola Travel Management Plan will evaluate and designate off-highway vehicle areas and trails in the vicinity of this restriction in compliance with the BLM's Comprehensive Travel and Transportation Management policies and according to BLM Resource Management Planning guidance in 43 CFR 1610 and 8342. Extending the original restriction through the completion of the Ehrenberg-Cibola Travel Management Plan will safeguard existing resource values from motorized travel, and will provide all interested stakeholders with additional opportunities to submit input on future off-highway vehicle designations in the area, as required by 43 CFR 8342.2(a).

James T. Shoaff,
Yuma Field Manager.

[FR Doc. E9-7697 Filed 4-3-09; 8:45 am]

BILLING CODE 4310-32-P